DEPARTMENT OF HEALTH AND HUMAN SERVICES

Administration for Children and Families

Proposed Information Collection Activity; Child and Family Services Reviews (OMB #0970-0214)

AGENCY: Children's Bureau, Administration for Children and Families, U.S. Department of Health and Human Services.

ACTION: Request for public comments.

SUMMARY: The Administration for Children and Families (ACF) is requesting a 3-year extension of the activities associated with the Child and Family Services Reviews information collection (Office of Management and Budget (OMB) #0970-0214, expiration January 31, 2025). There are no changes requested to the collection.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The following activities are associated with the Child and Family Services and Reviews (CFSR) collection: CFSR Statewide Assessment; CFSR On-site Review; and the CFSR Program Improvement Plan. The collection of information for review of State child and family services programs (45 CFR 1355.33(b), 1355.33(c) and 1355.35(a)) is to determine whether such programs are in substantial conformity with State plan requirements under titles IV-B and IV-E of the Social Security Act (the Act) and is authorized by section 1123(a) [42 U.S.C 1320a-2a] of the Act. The CFSR looks at the outcomes related to safety, permanency and well-being of children served by the child welfare system and at seven systemic factors that support the outcomes. The information collection is needed to monitor state plan requirements under titles IV-B and IV-E of the Act and is required by Federal statute. The resultant information will allow ACF to determine if States are in compliance with State plan requirements and are achieving desired outcomes for children and families. If necessary, ACF will require States to revise applicable statutes, rules, policies, and procedures, and provide proper training to staff, through the development and implementation of program improvement plans. The CFSR reviews not only address conformity with State plan requirements but also assist States in enhancing the capacities to serve children and families. In computing the number of burden hours for this information collection, ACF based the annual burden estimates on ACF's and States' experiences in conducting reviews and developing program improvement plans.

Respondents: State Title IV-E Agencies.

Annual Burden Estimates
Instrument | Total number of respondents | Total number of responses per respondent | Average burden hours per response | Total burden hours | Annual burden hours
Statewide Assessment (45 CFR 1355.33(b)) | 39 | 1 | 120 | 4,680 | 1,560
On-site Review Instrument Stakeholder Interview Guide (SIG) (45 CFR 1355.33(c)) | 39 | 1 | 1,186 | 46,254 | 15,418
Program Improvement Plan (45 CFR 1355.35(a)) | 39 | 1 | 300 | 11,700 | 3,900

Estimated Total Annual Burden Hours: 20,878.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C 1320a-2a.

Mary C. Jones,
ACF/OPRE Certifying Officer.

[FR Doc. 2024-12274 Filed 6-4-24; 8:45 am]

BILLING CODE 4184-01-P